DEPARTMENT OF STATE

[Public Notice 4883]

60-Day Notice of Proposed Information Collection: Form DS-2019, Certificate of Eligibility for Exchange Visitor (J-1) Status, OMB Control Number 1405-0119

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Certificate of Eligibility for Exchange Visitor (J-1) Status.

• OMB Control Number: 1405-0119.

• Type of Request: Extension of Currently Approved Collection.

• Originating Office: Office of Exchange Coordination and Designation, Bureau of Educational and Cultural Affairs (ECA/EC/ECD).

• Form Number: DS-2019.

• Respondents: Department of State designated Exchange Visitor Program sponsors and exchange visitors.

• Estimated Number of Respondents: 300,000.

• Estimated Number of Responses: 300,000.

• Average Hours Per Response: 45 minutes.

• Total Estimated Burden: 225,000 hours.

• Frequency: On occasion.

• Obligation to Respond: Required to Obtain or Retain a Benefit.

DATES: The Department will accept comments from the public up to 60 days from November 3, 2004.

ADDRESSES: You may submit comments by any of the following methods:

• E-mail: RoseVT@state.gov. You must include the DS form number, information collection title, and OMB control number in the subject line of your message.

• Mail (paper, disk, or CD-ROM submissions): Office of Exchange Coordination and Designation, Bureau of Educational and Cultural Affairs, 301 Fourth Street, SW., Room 734, U.S. Department of State, Washington, DC 20547.

• Fax: (202) 401-9809.

• Hand Delivery or Courier: 301 Fourth Street, SW., Room 734, U.S. Department of State, Washington, DC 20547.

FOR FURTHER INFORMATION CONTACT: Direct requests for additional information regarding the collection listed in this notice, including requests for copies of the proposed information collection and supporting documents, to Vicki Rose, Office of Exchange Coordination and Designation, Bureau of Educational and Cultural Affairs, 301 Fourth Street, SW., Room 734, U.S. Department of State, Washington, DC 20547, who may be reached on (202) 401-9810 or by e-mail at RoseVT@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: This Form collects information on nonimmigrants for the purpose of producing a document to enable a non-immigrant to seek a visa to participate in the Exchange Visitor Program.

Methodology: The information is collected electronically and is maintained in the Student and Exchange Visitor Information System (SEVIS).

Dated: October 14, 2004.
Cathy T. Chikes,
Executive Director, Bureau of Educational and Cultural Affairs, Department of State.

[FR Doc. 04-24547 Filed 11-2-04; 8:45 am]

BILLING CODE 4710-05-P